DEPARTMENT OF HOMELAND SECURITY

U.S. Citizenship and Immigration Services

[OMB Control Number 1615-NEW]

Agency Information Collection Activities; New Collection: Petition for Nonimmigrant Worker: E and TN Classifications; Petition for Nonimmigrant Worker: L Classifications; Petition for Nonimmigrant Worker: H-3, P, Q or R Classifications; and Petition for Nonimmigrant Worker: O Classifications

AGENCY: U.S. Citizenship and Immigration Services, Department of Homeland Security.

ACTION: 60-Day notice.

SUMMARY: The Department of Homeland Security (DHS), U.S. Citizenship and Immigration Services (USCIS) invites the general public and other Federal agencies to comment upon this new collection of information. In accordance with the Paperwork Reduction Act (PRA) of 1995, the information collection notice is published in the Federal Register to obtain comments regarding the nature of the information collection, the categories of respondents, the estimated burden (i.e., the time, effort, and resources used by the respondents to respond), the estimated cost to the respondent, and the actual information collection instruments.

DATES: Comments are encouraged and will be accepted for 60 days until October 18, 2021.

ADDRESSES: All submissions received must include the OMB Control Number 1615-NEW in the body of the letter, the agency name and Docket ID USCIS-2021-0016. Submit comments via the Federal eRulemaking Portal website at https://www.regulations.gov under e-Docket ID number USCIS-2021-0016.

FOR FURTHER INFORMATION CONTACT: USCIS, Office of Policy and Strategy, Regulatory Coordination Division, Samantha Deshommes, Chief, telephone number (240) 721-3000 (This is not a toll-free number. Comments are not accepted via telephone message). Please note contact information provided here is solely for questions regarding this notice. It is not for individual case status inquiries. Applicants seeking information about the status of their individual cases can check Case Status Online, available at the USCIS website at https://www.uscis.gov, or call the USCIS Contact Center at 800-375-5283 (TTY 800-767-1833).

SUPPLEMENTARY INFORMATION:

Comments

USCIS is separating Form I-129, Petition for Nonimmigrant Worker, (OMB control number 1615-0009) into several individual forms. These new forms will combine information from the main Form I-129 with information from the current Supplements to create unique forms tailored to specific nonimmigrant classifications. USCIS believes separating the current Form I-129 into several individual forms will consolidate and simplify the information collection requirements for respondents.

USCIS is creating Form I-129E&TN, Petition for Nonimmigrant Worker: E and TN Classifications; Form I-129L, Petition for Nonimmigrant Worker: L Classifications; Form I-129MISC, Petition for Nonimmigrant Worker: H-3, P, Q or R Classifications; and Form I-129O, Petition for Nonimmigrant Worker: O Classifications.

Form I-129E&TN will collect information for the E and the TN nonimmigrant programs. The Treaty Trader (E-1) and Treaty Investor (E-2) classifications are for citizens of countries with which the United States maintains treaties of commerce and navigation. An E-2 CNMI or E-2C investor is a noncitizen who seeks to enter or remain in the Commonwealth of the Northern Mariana Islands (CNMI) in order to maintain an investment in the CNMI that was approved by the CNMI government before November 28, 2009. The E-3 classification applies to nationals of Australia who are coming to the United States solely to perform services in a specialty occupation requiring theoretical and practical application of a body of highly specialized knowledge and at least the attainment of a bachelor's degree, or its equivalent, as a minimum for entry into the occupation in the United States. The TN Classification was created to implement part of a trilateral North American Free Trade Agreement (NAFTA) between Canada, Mexico, and the United States. The United States-Mexico-Canada Agreement (USMCA) has replaced NAFTA, and visas previously issued to NAFTA professionals are now issued to USMCA professionals. Congress has amended 8 U.S.C. 1184(e) to replace references to NAFTA with references to the USMCA.

Form I-129L will collect information for the L nonimmigrant program. The L-1 intracompany transferee nonimmigrant classification permits a multinational organization to transfer certain employees from one of its affiliated foreign entities to one of its entities in the United States. The L-1A classification is for employees coming to the United States temporarily to perform services in a managerial or executive capacity. The L-1B classification is for employees coming to the United States temporarily to perform services that require specialized knowledge.

Form I-129MISC will collect information for H-3, P, Q, or R classifications. The H-3 classification is for noncitizens coming to the United States temporarily to participate in a special education exchange visitor program in the education of children with physical, mental, or emotional disabilities. The P classifications are for noncitizens coming to the United States as internationally recognized athletes or teams; professional athletes; theatrical ice skaters; an entertainment group; artists or entertainers in reciprocal exchange programs; artists or entertainers coming to perform, teach or coach under a culturally unique program; or as support personnel for another nonimmigrant in a P classification. The Q-1 classification is for noncitizens coming to the United States temporarily to participate in an international cultural exchange program for the purpose of providing practical training, employment, and the sharing of the history, culture, and traditions of the country of the visitor's nationality. The R-1 classification is for noncitizens coming to the United States temporarily to be employed at least part time (average of at least 20 hours per week) by a bona fide nonprofit religious organization in the United States (or a bona fide organization that is affiliated with the religious denomination in the United States) to work (1) solely as a minister, (2) in a religious vocation, or (3) in a religious occupation.

Form I-129O will collect information for the O nonimmigrant program. The O classifications are for persons with extraordinary ability in the sciences, arts, education, business, or athletics; persons with extraordinary achievement in the motion picture or television industry; and qualifying essential support personnel.

USCIS will request approval of Form I-129E&TN, Form I-129L, Form I-129MISC, and Form I-129O from OMB as a new information collection. USCIS previously submitted these forms to OMB for approval during the 2020 USCIS Fee Rule; however, this rule was enjoined and therefore the approval is not in effect. USCIS has determined that the creation of this new information collection does not require rulemaking and is therefore proceeding to seek public comments on these forms via a notice of information collection published in the Federal Register in accordance with the Paperwork Reduction Act, 44 U.S.C. 3501-3521.

You may access the information collection instrument with instructions or additional information by visiting the Federal eRulemaking Portal site at: https://www.regulations.gov and entering USCIS-2021-0016 in the search box. All submissions will be posted, without change, to the Federal eRulemaking Portal at https://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of https://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New Collection.

(2) Title of the Form/Collection: Petition for Nonimmigrant Worker: E or TN Classifications; Petition for Nonimmigrant Worker: L Classifications; Petition for Nonimmigrant Worker: H-3, P, Q, or R Classifications; Petition for Nonimmigrant Worker: O Classifications.

(3) Agency form number, if any, and the applicable component of the DHS sponsoring the collection: I-129E&TN; I-129L; I-129MISC; I-129O; USCIS.

(4) Affected public who will be asked or required to respond, as well as a brief abstract: Primary: Business or other for-profit. USCIS will use the data collected on Form I-129E&TN to determine eligibility for the requested nonimmigrant classification and/or requests to extend or change nonimmigrant status. An employer may use this form to apply to USCIS for an employee to temporarily enter the United States and work as a TN nonimmigrant. A treaty trader, treaty investor, CNMI investor, employer, or applicant also uses this form to request an extension of stay in one of these classifications for an employee or for themselves, or to change the status of an employee currently in the United States as a nonimmigrant, or their own status if they are currently in the United States as a nonimmigrant, to E-1, E-2, E-2C, E-3, or TN. An employer also uses this form to request an extension of stay in E-3 classification for an employee, or to change the status of an employee currently in the United States to an E-3 nonimmigrant. An employee also uses this form to request an extension of stay in E-3 classification for themselves, or to change their own status to an E-3 nonimmigrant if they are currently in the United States in a nonimmigrant status.

USCIS will use the data collected on Form I-129L to determine a noncitizen's eligibility for L-1A and L-1B classification. The form is also used to determine whether, in advance of filing the individual L-1 petition, certain petitioning companies or organizations have established the required intracompany relationship for an LZ Blanket petition. An employer uses this form to petition USCIS for the noncitizen to temporarily enter the United States as a nonimmigrant. An employer also uses this form to request an extension of stay or change of status on behalf of the noncitizen. The form standardizes these requests and ensures that the information required for assessing eligibility is provided by the petitioner about itself and the noncitizen.

USCIS will use the data collected on Form I-129MISC to determine eligibility for the requested nonimmigrant classification and/or requests to extend or change nonimmigrant status. An employer (or agent or sponsor, where applicable) uses this form to petition USCIS for a noncitizen to temporarily enter as an H-3, P, Q, or R nonimmigrant. An employer (or agent or sponsor, where applicable) also uses this form to request an extension of stay of an H-3, P, Q, or R nonimmigrant worker or to change the status of a noncitizen currently in the United States as a nonimmigrant to H-3, P, Q, or R. The form standardizes requests for H-3, P, Q, or R nonimmigrant workers and ensures that basic information required for assessing eligibility is provided by the petitioner.

USCIS will use the data collected on Form I-129O to determine eligibility for the requested nonimmigrant classification and/or requests to extend or change nonimmigrant status. An employer or agent uses this form to petition USCIS for a noncitizen to temporarily enter as an O nonimmigrant. An employer or agent also uses this form to request an extension of stay of an O nonimmigrant worker or to change the status of a noncitizen currently in the United States in another nonimmigrant classification to O.

These forms also serve the purpose of standardizing petitions or applications filed for these various nonimmigrant classifications and ensuring that basic information required for assessing eligibility is provided by the petitioner or applicant. They also assist USCIS in compiling information required by Congress annually to assess effectiveness and utilization of certain nonimmigrant classifications.

(5) An estimate of the total number of respondents and the amount of time estimated for an average respondent to respond: The estimated total number of respondents for the information collection Form I-129E&TN is 12,709 and the estimated hour burden per response is 3 hours; the estimated total number of respondents for the information collection E-1/E-2 Classification Supplement to Form I-129E&TN is 3,573 and the estimated hour burden per response is 1.75 hours; the estimated total number of respondents for the information collection E-3 Classification Supplement to Form I-129E&TN is 1,787 and the estimated hour burden per response is 1 hour; the estimated total number of respondents for the information collection USMCA Supplement to Form I-129E&TN is 7,349 and the estimated hour burden per response is 0.5 hours.

The estimated total number of respondents for the information collection Form I-129L is 42,871 and the estimated hour burden per response is 3 hours.

The estimated total number of respondents for the information collection Form I-129MISC is 28,799 and the estimated hour burden per response is 3 hours; the estimated total number of respondents for the information collection H-3 Classification Supplement to Form I-129MISC is 1,449 and the estimated hour burden per response is 0.25 hours; the estimated total number of respondents for the information collection P Classification Supplement to Form I-129MISC is 18,524 and the estimated hour burden per response is 0.5 hours; the estimated total number of respondents for the information collection Q-1 International Cultural Exchange Alien Supplement to Form I-129MISC is 295 and the estimated hour burden per response is 0.167 hours; the estimated total number of respondents for the information collection R-1 Classification Supplement to Form I-129MISC is 8,531 and the estimated hour burden per response is 1 hour; the estimated total number of respondents for the information collection Attachment 1-Additional Beneficiary for Form I-129MISC is 6,491 and the estimated hour burden per response is 0.5 hours.

The estimated total number of respondents for the information collection Form I-129O is 25,516 and the estimated hour burden per response is 3 hours; the estimated total number of respondents for the information collection Attachment 1-Additional Beneficiary for Form I-129O is 1,189 and the estimated hour burden per response is 0.5 hours.

(6) An estimate of the total public burden (in hours) associated with the collection: The total estimated annual hour burden associated with this collection is 363,444 hours.

(7) An estimate of the total public burden (in cost) associated with the collection: The estimated total annual cost burden associated with this collection of information is $56,595,925.00.

Dated: August 13, 2021.
Samantha L. Deshommes,
Chief, Regulatory Coordination Division, Office of Policy and Strategy, U.S. Citizenship and Immigration Services, Department of Homeland Security.

[FR Doc. 2021-17721 Filed 8-17-21; 8:45 am]

BILLING CODE 9111-97-P